DEPARTMENT OF TRANSPORTATION

Federal Aviation Administration

14 CFR Part 39

[Docket No. FAA-2018-0497; Product Identifier 2017-NM-140-AD; Amendment 39-19418; AD 2018-19-18]

RIN 2120-AA64

Airworthiness Directives; Airbus SAS Airplanes

AGENCY: Federal Aviation Administration (FAA), Department of Transportation (DOT).

ACTION: Final rule.

SUMMARY: We are adopting a new airworthiness directive (AD) for certain Airbus SAS Model A300 B4-603, B4-620, and B4-622 airplanes; Model A300 B4-600R series airplanes; Model A300 C4-605R Variant F airplanes; and Model A300 F4-605R airplanes. This AD was prompted by reports of cracking on a certain frame (FR) angle fitting. This AD requires, depending on airplane configuration, a modification of certain angle fitting attachment holes; repetitive inspections for cracking of certain holes of the internal lower angle fitting web, certain holes of the internal lower angle fitting horizontal splicing, the aft bottom panel, and a certain junction area; and related investigative and corrective actions if necessary. We are issuing this AD to address the unsafe condition on these products.

DATES: This AD is effective November 7, 2018.

The Director of the Federal Register approved the incorporation by reference of certain publications listed in this AD as of November 7, 2018.

The Director of the Federal Register approved the incorporation by reference of a certain other publication listed in this AD as of December 19, 2005 (70 FR 69056, November 14, 2005).

ADDRESSES: For service information identified in this final rule, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2018-0497.

Examining the AD Docket

You may examine the AD docket on the internet at http://www.regulations.gov by searching for and locating Docket No. FAA-2018-0497; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

We issued a notice of proposed rulemaking (NPRM) to amend 14 CFR part 39 by adding an AD that would apply to certain Airbus SAS Model A300 B4-603, B4-620, and B4-622 airplanes; Model A300 B4-600R series airplanes; Model A300 C4-605R Variant F airplanes; and Model A300 F4-605R airplanes. The NPRM published in the Federal Register on June 4, 2018 (83 FR 25590). The NPRM was prompted by reports of cracking on the FR47 angle fitting. The NPRM proposed to require, depending on airplane configuration, a modification of certain angle fitting attachment holes; repetitive inspections for cracking of certain holes of the internal lower angle fitting web, certain holes of the internal lower angle fitting horizontal splicing, the aft bottom panel, and the FR47/Rib 1 junction area; and related investigative and corrective actions if necessary.

We are issuing this AD to address cracking of the FR47 angle fitting, which could result in reduced structural integrity of the airplane.

The European Aviation Safety Agency (EASA), which is the Technical Agent for the Member States of the European Union, has issued EASA AD 2017-0210, dated October 24, 2017 (referred to after this as the Mandatory Continuing Airworthiness Information, or “the MCAI”), to correct an unsafe condition for certain Airbus SAS Model A300 B4-603, B4-620, and B4-622 airplanes; Model A300 B4-600R series airplanes; Model A300 C4-605R Variant F airplanes; and Model A300 F4-605R airplanes. The MCAI states:

Prompted by cracks found on the Frame (FR) 47 angle fitting, Airbus issued SB [Service Bulletin] A300-57-6049, SB A300-57-6050, and SB A300-57-6086.

These cracks, if not detected and corrected, could affect the structural integrity of the centre wing box (CWB) of the aeroplane.

Consequently, DGAC [Direction Générale de l'Aviation Civile] France published AD 94-241-170, AD 1999-147-279, AD 2000-533-328 and AD F-2004-159 (EASA approval 2004-9779), each AD superseding the previous one, to require repetitive high frequency eddy current (HFEC) rotating probe inspections of the FR47 internal lower angle fitting.

After DGAC France AD F-2004-159 was issued, cracks were reportedly found on the horizontal flange of FR47 internal corner angle fitting during accomplishment of routine maintenance structural inspection and modification in accordance with the instructions of Airbus SB A300-57-6050. Prompted by these findings, Airbus reviewed and amended the inspection programme for the internal lower angle fitting flange (horizontal face).

Consequently, EASA issued AD 2012-0092 [which corresponds to FAA AD 2014-20-18, Amendment 39-17991 (79 FR 65879, November 6, 2014) (“AD 2014-20-18”)], retaining the requirements of DGAC France AD F-2004-159, which was superseded, and requiring additional repetitive inspections of the CWB lower panel through the ultrasonic method and, depending on findings, re-installation of removed fasteners in transition fit instead of interface.

In addition, DGAC France had previously issued AD F-2005-124 (EASA approval 2005-6071) to require the same inspections for A300 F4-608ST aeroplanes, in accordance with Airbus SB A300-57-9001 and SB A300-57-9002.

Following the discovery of numerous cracks during the accomplishment of SB A300-57-6049 and SB A300-57-6089 inspections, Airbus developed in a first step a new (recommended) modification (Airbus SB A300-57-6113) and defined, for post-mod aeroplanes, new inspections, and published SB A300-57-6119, which included new inspection methods (ultrasonic/radiographic) with new inspection thresholds and intervals.

Consequently, EASA issued AD 2016-0198, retaining the requirements of EASA AD 2012-0092, which was superseded, to require repetitive inspections for post-SB A300-57-6113 aeroplanes.

Since EASA AD 2016-0198 was issued, Airbus revised in a second step the inspection programme for A300-600 pre-SB 57-6113 and A300-600ST aeroplanes, reducing inspection thresholds and intervals. At this opportunity, the existing ultrasonic inspection for A300-600 aeroplanes has been added for A300-600ST aeroplanes.

For the reasons described above, this new [EASA] AD retains the requirements of EASA AD 2016-0198 for A300-600 aeroplanes and of DGAC France AD F-2005-124 for A300-600ST aeroplanes, which are both superseded, and requires [modification through cold expansion of certain angle fitting attachment holes and] repetitive inspections [for cracking of certain holes of the internal lower angle fitting web, certain holes of the internal lower angle fitting horizontal splicing, the aft bottom panel, and the FR47/Rib 1 junction area, and applicable related investigative and corrective actions] with new compliance times and intervals. This [EASA] AD is applicable to both A300-600 and A300-600ST aeroplanes * * *.

Related investigative actions include a rotating probe inspection for cracking. Corrective actions include replacing damaged fasteners, reaming and drilling holes, installing the next nominal fastener for oversized bore holes, and repairing cracks. You may examine the MCAI in the AD docket on the internet at http://www.regulations.gov by searching for and locating Docket No. FAA-2018-0497.

Comments

We gave the public the opportunity to participate in developing this final rule. The following presents the comments received on the NPRM and the FAA's response to each comment.

Request To Refer to New Service Information

FedEx Express requested that we revise paragraphs (j), (k), and (m)(2) of the proposed AD to refer to Airbus Service Bulletin A300-57-6086, Revision 7, dated March 26, 2018, rather than Airbus Service Bulletin A300-57-6086, Revision 6, dated July 4, 2017. FedEx Express noted that the service information had been updated since the NPRM was released.

We agree with the request. Airbus Service Bulletin A300-57-6086, Revision 7, dated March 26, 2018, removes one airplane from the effectivity and adds clarification on reporting related to ultrasonic inspections. All actions remain unchanged. We have revised paragraphs (j), (k), and (m)(2) of this AD to refer to Airbus Service Bulletin A300-57-6086, Revision 7, dated March 26, 2018. We have also revised paragraph (p) of this AD to provide credit for certain actions performed in accordance with Airbus Service Bulletin A300-57-6086, Revision 6, dated July 4, 2017.

Request To Allow Previously Approved Alternative Methods of Compliance (AMOCs)

FedEx Express requested that we revise the proposed AD to allow AMOCs previously approved for AD 2014-20-18 as AMOCs for the corresponding provisions of this AD.

We agree with the commenter's request. We have revised paragraph (q)(1) of this AD to note that AMOCs previously approved for AD 2014-20-18 are approved as AMOCs for the corresponding provisions of this AD.

Request To Allow Reporting Through Alternative Method

FedEx Express requested that paragraph (n) of the proposed AD be revised to allow operators to determine the method or form they use for reporting inspection results. FexEx Express noted that they believe reporting is needed, but do not currently have the capability to use the Airbus online reporting system.

We acknowledge the commenter's request, but disagree that we need to change this AD regarding this issue. Paragraph (n) of this AD allows reporting in accordance with the instructions of the applicable service information. This allows operators to use alternative methods of reporting, including mail, fax, and email. Therefore, a change to this AD is unnecessary.

Conclusion

We reviewed the relevant data, considered the comments received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Airbus SAS has issued the following service information.

• Service Bulletin A300-57-6049, Revision 8, dated July 4, 2017. This service information describes procedures for HFEC rotating probe inspections for cracking of certain holes of the internal lower angle fitting web.

• Service Bulletin A300-57-6086, Revision 7, dated March 26, 2018. This service information describes procedures for HFEC rotating probe inspections for cracking of certain holes in the internal lower angle fitting horizontal splicing (left-hand and right-hand sides) and for ultrasonic inspections for cracking of the aft bottom panel.

• Service Bulletin A300-57-6119, Revision 00, dated April 25, 2016. This service information describes procedures for ultrasonic and radiographic inspections for cracking of the FR47/Rib 1 junction area.

This service information is reasonably available because the interested parties have access to it through their normal course of business or by the means identified in the ADDRESSES section.

Costs of Compliance

We estimate that this AD affects 65 airplanes of U.S. registry.

We estimate the following costs to comply with this AD:

Estimated Costs for Required Actions
Labor cost | Parts cost | Cost per product | Cost on U.S. operators
Up to 727 work-hours × $85 per hour = Up to $61,795 | Up to $3,370 | Up to $65,165 | Up to $4,235,725 per inspection cycle.

We estimate that it would take about 1 work-hour per product to comply with the reporting requirement in this AD. The average labor rate is $85 per hour. Based on these figures, we estimate the cost of reporting the inspection results on U.S. operators to be $5,525, or $85 per product.

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-19-18 Airbus SAS: Amendment 39-19418; Docket No. FAA-2018-0497; Product Identifier 2017-NM-140-AD.

(a) Effective Date

This AD is effective November 7, 2018.

(b) Affected ADs

This AD affects AD 2014-20-18, Amendment 39-17991 (79 FR 65879, November 6, 2014) (“AD 2014-20-18”).

(c) Applicability

This AD applies to Airbus SAS Model A300 B4-603, A300 B4-620, A300 B4-622, A300 B4-605R, A300 B4-622R, A300 C4-605R Variant F, and A300 F4-605R airplanes, certificated in any category, all manufacturer serial numbers, except airplanes on which Airbus Modification 12171 or 12249 has been embodied in production, or on which Airbus Service Bulletin A300-57-6069 has been embodied in service.

(d) Subject

Air Transport Association (ATA) of America Code 57, Wings.

(e) Reason

This AD was prompted by reports of cracking on the frame (FR) 47 angle fitting. We are issuing this AD to detect and correct cracking of the FR47 angle fitting, which could result in reduced structural integrity of the airplane.

(f) Compliance

Comply with this AD within the compliance times specified, unless already done.

(g) Definitions

For the purposes of this AD, the definitions in paragraphs (g)(1) through (g)(6) apply.

(1) Group 1 airplanes are those airplanes on which Airbus Service Bulletin A300-57-6113, Revision 00, dated April 25, 2016, has not been incorporated as of the effective date of this AD.

(2) Group 2 airplanes are those airplanes on which Airbus Service Bulletin A300-57-6113, Revision 00, dated April 25, 2016, has been incorporated as of the effective date of this AD.

(3) The average flight time (AFT) for the inspection threshold is defined as the flight hours (FH) divided by the flight cycles (FC), counted from the first flight of the airplane.

(4) The AFT for the inspection interval is defined as the FH divided by the FC, counted from the date of the last inspection required by paragraph (i), (j), (k), or (l) of this AD, as applicable.

(5) For airplanes on which Airbus modification 10155 has been embodied, the thresholds for the inspections required by paragraphs (i), (j), and (k) of this AD are counted from the first flight of the airplane.

(6) For airplanes on which Airbus modification 10155 has not been embodied, the thresholds for the inspections required by paragraphs (i), (j), and (k) of this AD are counted since the date on which Airbus Service Bulletin A300-57-6050 was embodied on the airplane.

(h) Modification

For all airplanes on which Airbus modification 10155 has not been embodied: Before exceeding 15,100 FC or 38,900 FH, whichever occurs first after first flight of the airplane; or within the “grace periods” defined in paragraph 1.B.(4), “Accomplishment Timescale,” of Airbus Service Bulletin A300-57-6050, Revision 3, dated May 31, 2001; whichever occurs later, modify the angle fitting attachment holes of the wing center box by cold expansion, including doing a rotating probe inspection for cracking, in accordance with the Accomplishment Instructions of Airbus Service Bulletin A300-57-6050, Revision 3, dated May 31, 2001. Where paragraph 1.B.(4), “Accomplishment Timescale,” of Airbus Service Bulletin A300-57-6050, Revision 3, dated May 31, 2001, specifies “grace periods” relative to the receipt of the service bulletin, count the “grace periods” from December 19, 2005 (the effective date of AD 2005-23-08 (70 FR 69056, November 14, 2005)). If any crack is found during any inspection: Before further flight, repair using a method approved by the Manager, International Section, Transport Standards Branch, FAA; or the European Aviation Safety Agency (EASA); or Airbus SAS's EASA Design Organization Approval (DOA). If approved by the DOA, the approval must include the DOA-authorized signature.

(i) Internal Lower Angle Fitting (Vertical Face) Web Inspections

For Group 1 airplanes: Before exceeding the applicable threshold specified in figure 1 to paragraph (i) of this AD, or within 12 months after the effective date of this AD, whichever occurs later, do a high frequency eddy current (HFEC) rotating probe inspection for cracking of holes H, I, K, L M, N, U, V, W, X, and Y of the internal lower angle fitting web (left-hand and right-hand sides), in accordance with the Accomplishment Instructions of Airbus Service Bulletin A300-57-6049, Revision 8, dated July 4, 2017. Repeat the inspection thereafter at intervals not to exceed those specified in figure 1 to paragraph (i) of this AD.

(j) Internal Lower Angle Fitting (Horizontal Face) Inspections

For Group 1 airplanes: Before exceeding the applicable threshold specified in figure 2 to paragraph (j) of this AD, or within 12 months after the effective date of this AD, whichever occurs later, do an HFEC rotating probe inspection for cracking of holes A, B, C, D, E, F, G, P, Q, S, and T (adjacent to hole G) of the internal lower angle fitting horizontal splicing (left-hand and right-hand sides), in accordance with the Accomplishment Instructions of Airbus Service Bulletin A300-57-6086, Revision 7, dated March 26, 2018. Repeat the inspection thereafter at intervals not to exceed those specified in figure 2 to paragraph (j) of this AD.

(k) Aft Bottom Panel Inspections

For Group 1 airplanes: Before exceeding the applicable thresholds specified in figure 3 to paragraph (k) of this AD, or within 12 months after the effective date of this AD, whichever occurs later, do an ultrasonic inspection for cracking of the aft bottom panel, in accordance with the Accomplishment Instructions of Airbus Service Bulletin A300-57-6086, Revision 7, dated March 26, 2018. Repeat the inspection thereafter at intervals not to exceed those specified in figure 3 to paragraph (k) of this AD.

(l) FR47/Rib 1 junction area inspections

For Group 2 airplanes: Before exceeding the applicable thresholds specified in figure 4 to paragraph (l) of this AD, do ultrasonic and radiographic inspections for cracking of the FR47/Rib 1 junction area, in accordance with the Accomplishment Instructions of Airbus Service Bulletin A300-57-6119, Revision 00, dated April 25, 2016. Repeat the inspections thereafter at intervals not to exceed those specified in figure 4 to paragraph (l) of this AD. Count the threshold compliance times from the date on which Airbus Service Bulletin A300-57-6113, Revision 00, dated April 25, 2016, was embodied on the airplane.

(m) Related Investigative and Corrective Actions

If, during any inspection required by paragraph (i), (j), (k), or (l) of this AD, any crack is found: Before further flight, accomplish all applicable related investigative and corrective actions in accordance with the Accomplishment Instructions of the service information specified in paragraphs (m)(1) through (m)(3) of this AD, as applicable. Where the service information specified in paragraphs (m)(1) through (m)(3) of this AD specifies to contact Airbus for instructions, before further flight, obtain instructions approved by the Manager, International Section, Transport Standards Branch, FAA; or EASA; or Airbus SAS's EASA DOA and accomplish those instructions accordingly. If approved by the DOA, the approval must include the DOA-authorized signature.

(1) If the inspection was done as specified in paragraph (i) of this AD: Airbus Service Bulletin A300-57-6049, Revision 8, dated July 4, 2017.

(2) If the inspection was done as specified in paragraph (j) or (k) of this AD: Airbus Service Bulletin A300-57-6086, Revision 7, dated March 26, 2018.

(3) If the inspection was done as specified in paragraph (l) of this AD: Airbus Service Bulletin A300-57-6119, Revision 00, dated April 25, 2016.

(n) Reporting

At the applicable time specified in paragraph (n)(1) or (n)(2) of this AD: Report the results of the inspections required by paragraphs (i), (j), (k), and (l) of this AD to Airbus Service Bulletin Reporting Online Application on Airbus World (https://w3.airbus.com/), or submit the results to Airbus in accordance with the instructions of the applicable service information specified in paragraphs (i), (j), (k), or (l) of this AD. The report must include the inspection results, a description of any discrepancies found, the airplane serial number, and the number of flight cycles and flight hours on the airplane.

(1) If the inspection was done on or after the effective date of this AD: Submit the report within 30 days after the inspection.

(2) If the inspection was done before the effective date of this AD: Submit the report within 30 days after the effective date of this AD.

(o) Terminating Action for AD 2014-20-18

Accomplishment of the action required by paragraph (h) of this AD and the initial inspections required by paragraphs (i) and (j), and (k) of this AD terminates all requirements of AD 2014-20-18.

(p) Credit for Previous Actions

(1) This paragraph provides credit for actions specified in paragraph (h) of this AD, if those actions were performed before December 19, 2005 (the effective date of AD 2005-23-08 (70 FR 69056, November 14, 2005)), using Airbus Service Bulletin A300-57-6050, Revision 02, dated February 10, 2000.

(2) This paragraph provides credit for actions specified in paragraphs (j), (k), and (m)(2) of this AD, if those actions were performed before the effective date of this AD using Airbus Service Bulletin A300-57-6086, Revision 6, dated July 4, 2017.

(q) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (r)(2) of this AD. Information may be emailed to: 9-ANM-116-AMOC-REQUESTS@faa.gov.

(i) Before using any approved AMOC, notify your appropriate principal inspector, or lacking a principal inspector, the manager of the local flight standards district office/certificate holding district office.

(ii) AMOCs previously approved for AD 2014-20-18 are approved as AMOCs for the corresponding provisions of this AD.

(2) Contacting the Manufacturer: For any requirement in this AD to obtain corrective actions from a manufacturer, the action must be accomplished using a method approved by the Manager, International Section, Transport Standards Branch, FAA; or EASA; or Airbus SAS's EASA DOA. If approved by the DOA, the approval must include the DOA-authorized signature.

(3) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 work-hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(4) Required for Compliance (RC): Except as required by paragraph (m) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(r) Related Information

(1) Refer to Mandatory Continuing Airworthiness Information (MCAI) EASA AD 2017-0210, dated October 24, 2017, for related information. This MCAI may be found in the AD docket on the internet at http://www.regulations.gov by searching for and locating Docket No. FAA-2018-0497.

(2) For more information about this AD, contact Dan Rodina, Aerospace Engineer, International Section, Transport Standards Branch, FAA, 2200 South 216th St., Des Moines, WA 98198; telephone and fax 206-231-3225.

(3) Service information identified in this AD that is not incorporated by reference is available at the addresses specified in paragraphs (s)(5) and (s)(6) of this AD.

(s) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 7, 2018.

(i) Airbus Service Bulletin A300-57-6049, Revision 8, dated July 4, 2017.

(ii) Airbus Service Bulletin A300-57-6086, Revision 7, dated March 26, 2018.

(iii) Airbus Service Bulletin A300-57-6119, Revision 00, dated April 25, 2016.

(4) The following service information was approved for IBR on December 19, 2005 (70 FR 69056, November 14, 2005).

(i) Airbus Service Bulletin A300-57-6050, Revision 03, dated May 31, 2001. This document contains the effective pages specified in paragraphs (s)(4)(i)(A), (s)(4)(i)(B), (s)(4)(i)(C), and (s)(4)(i)(D) of this AD.

(A) Pages 1, 4, 10A through 11, 75, and 76 are identified as Revision 03, dated May 31, 2001.

(B) Pages 2, 8, 9, 17 through 32, 41, 42, 57, 58, 61 through 63, and 77 are identified as Revision 02, dated February 10, 2000.

(C) Pages 3, 5 through 7, 10, 12, 33, 34, 37, 38, 47, 59, and 60 are identified as Revision 01, dated May 31, 1999.

(D) Pages 13 through 16, 35, 36, 39, 40, 43 through 46, 48 through 56, and 64 through 74 are identified as original, dated September 9, 1994.

(ii) Reserved.

(5) For service information identified in this AD, contact Airbus SAS, Airworthiness Office—EAW, Rond-Point Emile Dewoitine No: 2, 31700 Blagnac Cedex, France; telephone +33 5 61 93 36 96; fax +33 5 61 93 44 51; email account.airworth-eas@airbus.com; internet http://www.airbus.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, call 202-741-6030, or go to: http://www.archives.gov/federal-register/cfr/ibr-locations.html.

Issued in Des Moines, Washington, on September 10, 2018.
Michael Kaszycki,
Acting Director, System Oversight Division, Aircraft Certification Service.

[FR Doc. 2018-20348 Filed 10-2-18; 8:45 am]

BILLING CODE 4910-13-P